DEPARTMENT OF COMMERCE

National Institute of Standards and Technology

NIST Blue Ribbon Commission on Management and Safety—II

AGENCY: National Institute of Standards and Technology, Department of Commerce.

ACTION: Notice of establishment of the NIST Blue Ribbon Commission on Management and Safety—II and Notice of Open Meetings.

SUMMARY: Pursuant to the Federal Advisory Committee Act (5 U.S.C. app.), the Director of the National Institute of Standards and Technology announces the establishment of the NIST Blue Ribbon Commission on Management and Safety—II “Commission”. The Commission will assess NIST's progress in addressing the findings of the first NIST Blue Ribbon Commission and identify additional opportunities to strengthen management and safety at NIST. This Notice also provides notice of two open meetings of the Commission. Agendas for the meetings will be posted on the agency's Web site, http://www.nist.gov/director.

DATES: The Commission will meet on October 12, 2010 in Gaithersburg, Maryland and on October 20, 2010 in Boulder, Colorado.

ADDRESSES: Comments on the Commission's establishment should be submitted to Kevin Kimball, National Institute of Standards and Technology, Building 101, MS 1000, 100 Bureau Drive, Gaithersburg, MD, 20899; telephone: (301) 975-3070; e-mail: kevin.kimball@nist.gov.

Locations of the meetings and instructions for visitor admission may be found in Section IV, Notice of Public Meetings, of this notice.

FOR FURTHER INFORMATION CONTACT: Kevin Kimball, National Institute of Standards and Technology, Building 101, MS 1000, 100 Bureau Drive, Gaithersburg, MD 20899; telephone: (301) 975-3070; e-mail: kevin.kimball@nist.gov.

SUPPLEMENTARY INFORMATION:

I. Background

The NIST Blue Ribbon Commission on Management and Safety—II is established to assess NIST's progress in addressing the findings of the first NIST Blue Ribbon Commission and identify additional opportunities to strengthen management and safety at NIST. In particular, the Commission will assess NIST's progress in: Making safety a core value at NIST; Integrating safety with the conduct of operations in a meaningful way across organizational units; Benchmarking safety protocols and performance against similar organizations with strong safety cultures; Addressing a serious lack of resources for safety; and Engaging a staff that is eager, willing, and ready to embrace a safety culture.

The Commission will submit a written report on its findings.

II. Structure

The Director shall appoint the members of the Commission. The Commission will have eight members. Each member will be either a member of the first NIST Blue Ribbon Commission or a current member of the NIST Visiting Committee on Advanced Technology. Each member will be a qualified expert with public or private sector experience in one or more of the following areas: (a) Management and organizational structure; (b) Training and human resources operations; (c) Laboratory management and safety; (d) Hazardous materials safety; (e) Emergency medical response; (f) Environmental safety; (g) Environmental remediation; and (h) Security for hazardous materials.

Each member will serve for the duration of the Commission. Members shall serve as Special Government Employees (SGEs) as such employees are defined in 18 U.S.C. 202(a).

III. Compensation

Members shall receive per diem and travel expenses as authorized by 5 U.S.C. 5703, as amended, for persons employed intermittently in the Government service. No other compensation shall be provided.

IV. Notice of Open Meetings

The meeting being held on October 12, 2010 will be held at the National Institute of Standards and Technology, Administrative Building, Gaithersburg, Maryland 20899. The meeting being held on October 20, 2010 will be held at the National Institute of Standards and Technology, Building 1, Room 1103/1105, Boulder, Colorado. Agendas for the meeting will be posted on the agency's Web site, http://www.nist.gov/director.

To enable NIST to make arrangements to admit visitors to the NIST campus, anyone wishing to attend these meetings should submit name, e-mail address and phone number to Mary Lou Norris (marylou.norris@nist.gov) no later than October 5, 2010.

Dated: September 16, 2010.
Harry S. Hertz,
Director, Baldrige National Quality Program.

[FR Doc. 2010-23724 Filed 9-22-10; 8:45 am]

BILLING CODE 3510-13-P